DEPARTMENT OF EDUCATION

Applications for New Awards; Education Research and Special Education Research Grant Programs

AGENCY: Institute of Education Sciences.

ACTION: Notice.

Overview Information:

Education Research and Special Education Research Grant Programs.

Notice inviting applications for new awards for fiscal year (FY) 2013.

Catalog of Federal Domestic Assistance (CFDA) Numbers: 84.305A, 84.305B, 84.305D, 84.305E, 84.305H, 84.324A, 84.324B, and 84.324D.

SUMMARY: The Director of the Institute of Education Sciences (Institute) announces the Institute's FY 2013 competitions for grants to support education research and special education research. The Director takes this action under the Education Sciences Reform Act of 2002. The Institute's purpose in awarding these grants is to provide national leadership in expanding fundamental knowledge and understanding of developmental and school readiness outcomes for infants and toddlers with or at risk for disability, and of education outcomes for all students from early childhood education through postsecondary and adult education.

DATES: The dates when applications are available and the deadlines for transmittal of applications invited under this notice are indicated in the chart at the end.

Full Text of Announcement

I. Funding Opportunity Description

Purpose of Program: The central purpose of the Institute's research grant programs is to provide parents, educators, students, researchers, policymakers, and the general public with reliable and valid information about education practices that support learning and improve academic achievement and access to education opportunities for all students. In carrying out its grant programs, the Institute provides support for programs of research in areas of demonstrated national need.

Competitions in this Notice: The Institute will conduct 10 research competitions in FY 2013 through two of its National Education Centers.

The Institute's National Center for Education Research (NCER) will hold six competitions: two competitions for education research; one competition for education research training; one competition for research on statistical and research methodology in education; one competition for evaluation of State and local education programs and policies; and one competition for researcher-practitioner partnerships in education research.

The Institute's National Center for Special Education Research (NCSER) will hold four competitions: two competitions for special education research; one competition for special education research training; and one competition for a new Accelerating the Academic Achievement of Students with Disabilities Research Initiative.

NCER Competitions

The Education Research Competitions. Under these two competitions, NCER will consider only applications that address one of the following education research topics:

• Cognition and Student Learning

• Early Learning Programs and Policies

• Education Technology

• Effective Teachers and Effective Teaching

• English Learners

• Improving Education Systems: Policies, Organization, Management, and Leadership

• Mathematics and Science Education

• Postsecondary and Adult Education

• Reading and Writing

• Social and Behavioral Context for Academic Learning

The Education Research Training Competition. Under this competition, NCER will consider only applications that address one of the following two topics:

• Postdoctoral Research Training

• Researcher and Policymaker Training

The Research on Statistical and Research Methodology in Education Competition. Under this competition, NCER will consider only applications that address research on statistical and research methodology in education.

The Evaluation of State and Local Education Programs and Policies Competition. Under this competition, NCER will consider only applications that address the evaluation of State and local education programs and policies.

The Researcher-Practitioner Partnerships in Education Research Competition. Under this competition, NCER will consider only applications that address the partnering of researchers with State and local education agencies in the development of joint research projects.

NCSER Competitions

The Special Education Research Competitions. Under these two competitions, NCSER will consider only applications that address one of the following special education research topics:

• Early Intervention and Early Learning in Special Education

• Reading, Writing, and Language Development

• Mathematics and Science Education

• Social and Behavioral Outcomes to Support Learning

• Transition Outcomes for Special Education Secondary Students

• Cognition and Student Learning in Special Education

• Professional Development for Teachers and Related Services Providers

• Special Education Policy, Finance, and Systems

• Autism Spectrum Disorders

• Technology for Special Education

• Families of Children with Disabilities

The Special Education Research Training Competition. Under this competition, NCSER will consider only applications that address the following topic:

• Early Career Development and Mentoring in Special Education Research

The Accelerating the Academic Achievement of Students with Disabilities Research Initiative Competition. Under this competition, NCSER will consider only applications that address the acceleration of reading and mathematics achievement of students with disabilities.

Program Authority: 20 U.S.C. 9501 et seq.

Applicable Regulations: The Education Department General Administrative Regulations (EDGAR) in 34 CFR parts 74, 77, 80, 81, 82, 84, 85, 86, 97, 98, and 99. In addition, 34 CFR part 75 is applicable, except for the provisions in 34 CFR 75.100, 75.101(b), 75.102, 75.103, 75.105, 75.109(a), 75.200, 75.201, 75.209, 75.210, 75.211, 75.217(a)-(c), 75.219, 75.220, 75.221, 75.222, and 75.230.

Note: The regulations in 34 CFR part 86 apply to institutions of higher education only.

II. Award Information

Type of Award: Discretionary grants and cooperative agreements.

Fiscal Information: Although Congress has not yet enacted an appropriation for fiscal year 2013, the Institute is inviting applications for these competitions now so that it may give applicants adequate time to prepare their applications this spring before the first round of competitions takes place. The Department may announce additional topics later in 2012. The actual award of grants will depend on the availability of funds. The size of the awards will depend on the scope of the projects proposed.

The number of awards made under each competition will depend on the quality of the applications received for that competition, the availability of funds, and the following limits on awards for specific competitions and topics set by the Institute.

For the National Center for Education Research's Education Research Training competition, no more than five grants will be awarded under the Postdoctoral Research Training topic, and no more than three grants will be awarded under the Researcher and Policymaker Training topic.

For the National Center for Special Education Research's Education Research Training competition, no more than ten grants will be awarded under the Early Career Development and Mentoring in Special Education Research topic.

For the National Center for Special Education Research's Accelerating the Academic Achievement of Students with Disabilities Research Initiative competition, no more than three grants will be awarded.

III. Eligibility Information

1. Eligible Applicants: Applicants that have the ability and capacity to conduct scientifically valid research are eligible to apply. Eligible applicants include, but are not limited to, non-profit and for-profit organizations and public and private agencies and institutions, such as colleges and universities.

2. Cost Sharing or Matching: These programs do not require cost sharing or matching.

IV. Application and Submission Information

1. Request for Applications and Other Information: Information regarding program and application requirements for the competitions will be contained in the NCER and NCSER Requests for Applications (RFAs), which will be available at the following Web site: http://ies.ed.gov/funding/.

RFAs Available: The RFAs for the Education Research, Special Education Research, Education Research Training, Special Education Research Training, Research on Statistical and Research Methodology in Education, and the Evaluation of State and Local Education Programs and Policies competitions will be available at the Web site listed above on or before March 9, 2012. The RFAs for the Researcher-Practitioner Partnerships in Education Research and the Accelerating the Academic Achievement of Students with Disabilities Research Initiative competitions will be available at the Web site listed above on or before March 23, 2012. The dates on which the application packages for these competitions will be available are indicated in the chart at the end of this notice.

Information regarding selection criteria, requirements concerning the content of an application, and review procedures for the competitions are in the RFAs. The RFAs also include information on the maximum award available under each grant competition. We will reject any application that proposes a budget exceeding the relevant maximum award. The Director of the Institute may change the maximum amount through a notice in the Federal Register.

2. Deadline for Transmittal of Applications: The deadline dates for transmittal of applications invited under this notice are indicated in the chart at the end of this notice and in the RFAs for the competitions.

3. Submission Requirements: Each competition will have its own application. Applications for grants under these competitions must be obtained from and submitted electronically using the Grants.gov Apply site (Grants.gov). For information (including dates and times) about how to submit your application electronically, or in paper format by mail or hand delivery if you qualify for an exception to the electronic submission requirement, please refer to section V. 1. Electronic Submission of Applications in this notice.

We do not consider an application that does not comply with the deadline requirements.

Individuals with disabilities who need an accommodation or auxiliary aid in connection with the application process should contact the person listed under FOR FURTHER INFORMATION CONTACT in section VIII of this notice. If the Department provides an accommodation or auxiliary aid to an individual with a disability in connection with the application process, the individual's application remains subject to all other requirements and limitations in this notice.

4. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet (http://fedgov.dnb.com/webform). A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

V. Submission of Applications

Applications for grants under these competitions must be submitted electronically unless you qualify for an exception to this requirement in accordance with the instructions in this section.

1. Electronic Submission of Applications

Applications for grants under the Education Research, Education Research Training, Research on Statistical and Research Methodology in Education, Evaluation of State and Local Education Programs and Policies, and Researcher-Practitioner Partnerships competitions, CFDA Numbers 84.305A, 84.305B, 84.305D, 84.305E, and 84.305H and for grants under the Special Education Research, Special Education Research Training, and the Accelerating the Academic Achievement of Students with Disabilities Research Initiative competitions, CFDA Numbers 84.324A, 84.324B, and 84.324D must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant applications for the Education Research, Education Research Training, Research on Statistical and Research Methodology in Education, Evaluation of State and Local Education Programs and Policies, Researcher-Practitioner Partnerships, Special Education Research, Special Education Research Training, and the Accelerating the Academic Achievement of Students with Disabilities Research Initiative competitions at www.Grants.gov. You must search for the downloadable application package for each competition by the CFDA number. Do not include the CFDA number's alpha suffix in your search (e.g., search for 84.324, not 84.324A).

Please note the following:

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not accept your application if it is received—that is, date and time stamped by the Grants.gov system—after 4:30 p.m., Washington, DC time, on the application deadline date. We do not consider an application that does not comply with the deadline requirements. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for the competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: Application for Federal Assistance (SF 424 Research & Related (R&R)) and the other R&R forms including, Project Performance Site Locations, Other Project Information, Senior/Key Person Profile (Expanded), Research and Related Budget (Total Federal and Non-Federal), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VIII of this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Ellie McCutcheon, U.S. Department of Education, 555 New Jersey Avenue NW., Room 602e, Washington, DC 20208. FAX: (202) 219-1466.

Your paper application must be submitted in accordance with the mail or hand delivery instructions described in this notice.

2. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number: [Identify the CFDA number, including suffix letter, if any, for the competition under which you are submitting an application.]), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

3. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number: [Identify the CFDA number, including suffix letter, if any, for the competition under which you are submitting an application.]), 550 12th Street SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 10 of the SF 424 (R&R) the CFDA number, including suffix letter, if any, of the competition under which you are submitting your application; and

(2) The Application Control Center will mail to you a notification of receipt of your grant application. If you do not receive this notification within 15 business days from the application deadline date, you should call the U.S. Department of Education Application Control Center at (202) 245-6288.

VI. Application Review Information

1. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

2. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VII. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for a three-day meeting for project directors to be held in Washington, DC.

4. Reporting: (a) If you apply for a grant under one of the competitions announced in this notice, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: To evaluate the overall success of its education research grant program, the Institute annually assesses the number of IES-supported interventions with evidence of efficacy in improving student outcomes including school readiness, academic outcomes (reading, writing, mathematics, and science), high school graduation and dropout, postsecondary enrollment and completion, and in enhancing teacher characteristics that have been shown to have a positive effect on student outcomes. For the special education research grant program, the Institute annually assesses the number of IES-supported interventions with evidence of efficacy in improving student outcomes in early learning, academics, and behavior. The data for these annual measures are based on What Works Clearinghouse (WWC) reviews of initial findings on interventions from IES research grants, such as findings that will have been presented as papers at a convention or working papers provided to IES by its grantees. The WWC reviews these reports and rates them using the WWC published standards to determine whether the evidence from these research grants meets evidence standards of the WWC and demonstrates a statistically significant positive effect in improving the relevant outcome. The Institute also annually assesses the performance of its research training and special education research training programs by measuring the number of individuals who have been or are being trained in IES-funded research training programs and the number of fellows working in the field of education after they have completed the training program.

6. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VIII. Agency Contact

FOR FURTHER INFORMATION CONTACT: The contact person associated with a particular research competition is listed in the chart at the end of this notice and in the RFA package. The date on which applications will be available, the deadline for transmittal of applications, the estimated range of awards, and the project period are also listed in the chart and in the RFAs that are posted at the following Web sites: http://ies.ed.gov/funding/. www.ed.gov/about/offices/list/ies/programs.html.

Accessible Format: Individuals with disabilities can obtain this document and a copy of the RFA package in an accessible format (e.g., braille, large print, audiotape, or compact disc) on request to the appropriate program contact person listed in the chart at the end of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 1, 2012.
John Q. Easton,
Director, Institute of Education Sciences.

Institute of Education Sciences
[FY 2013 grant competitions to support education research and special education research]
CFDA No. and name | Application package available | Deadline for transmittal of applications | Estimated range of awards * | Project period | For further information contact
National Center for Education Research (NCER)
84.305A-1 Education Research | April 19, 2012 | June 21, 2012 | $100,000 to $1,000,000 | Up to 5 years | Emily Doolittle, Emily.Doolittle@ed.gov
Reading and Writing
Mathematics and Science Education
Cognition and Student Learning
Effective Teachers and Effective Teaching
Social and Behavioral Context for Academic Learning
Improving Education Systems: Policies, Organization, Management, and Leadership
Early Learning Programs and Policies
English Learners
Postsecondary and Adult Education
Education Technology
84.305A-2 Education Research | July 19, 2012 | September 20, 2012 | $100,000 to $1,000,000 | Up to 5 years | Emily Doolittle Emily.Doolittle@ed.gov
Reading and Writing
Mathematics and Science Education
Cognition and Student Learning
Effective Teachers and Effective Teaching
Social and Behavioral Context for Academic Learning
Improving Education Systems: Policies, Organization, Management, and Leadership
Early Learning Programs and Policies
English Learners
Postsecondary and Adult Education
Education Technology
84.305B Research Training Programs in the Education Sciences
Postdoctoral Research Training Program | July 19, 2012 | September 20, 2012 | $50,000 to $300,000 | Up to 5 years | Meredith Larson, Meredith.Larson@ed.gov
Researcher and Policymaker Training Program
84.305D Research on Statistical and Research Methodology in Education | July 19, 2012 | September 20, 2012 | $40,000 to $300,000 | Up to 3 years | Phill Gagne, Phill.Gagne@ed.gov
84.305E Evaluation of State and Local Education Programs and Policies | April 19, 2012 | June 21, 2012 | $200,000 to $1,000,000 | Up to 5 years | Allen Ruby, Allen.Ruby@ed.gov
84.305H Researcher-Practitioner Partnerships in Education Research | July 19, 2012 | September 20, 2012 | $100,000 to $400,000 | Up to 3 years | Allen Ruby, Allen.Ruby@ed.gov
National Center for Special Education Research (NCSER)
84.324A-1 Special Education Research | April 19, 2012 | June 21, 2012 | $100,000 to $1,000,000 | Up to 5 years | Jacquelyn Buckley, Jacquelyn.Buckley@ed.gov
Early Intervention and Early Learning in Special Education
Reading, Writing, and Language Development
Mathematics and Science Education
Social and Behavioral Outcomes to Support Learning
Transition Outcomes for Special Education Secondary Students
Cognition and Student Learning in Special Education
Professional Development for Teachers and Related Services Providers
Special Education Policy, Finance, and Systems
Autism Spectrum Disorders
Technology for Special Education
Families of Children with Disabilities
84.324A-2 Special Education Research | July 19, 2012 | September 20, 2012 | $100,000 to $1,000,000 | Up to 5 years | Jacquelyn Buckley, Jacquelyn.Buckley@ed.gov
Early Intervention and Early Learning in Special Education
Reading, Writing, and Language Development
Mathematics and Science Education
Social and Behavioral Outcomes to Support Learning
Transition Outcomes for Special Education Secondary Students
Cognition and Student Learning in Special Education
Professional Development for Teachers and Related Services Providers
Special Education Policy, Finance, and Systems
Autism Spectrum Disorders
Technology for Special Education
Families of Children with Disabilities
84.324B Special Education Research Training | July 19, 2012 | September 20, 2012 | $50,000 to $100,000 | Up to 5 years | Amy Sussman, Amy.Sussman@ed.gov
Early Career Development and Mentoring Program in Special Education Research
84.324D Accelerating the Academic Achievement of Students with Disabilities Research Initiative | July 19, 2012 | September 20, 2012 | $1,000,000 to $2,000,000 | Up to 5 years | Kristen Lauer, Kristen.Lauer@ed.gov
* These estimates are annual amounts.
Note: The Department is not bound by any estimates in this notice.
Note: If you use a telecommunications device for the deaf (TDD) or a test telephone (TTY), call the Federal Relay Service, toll free, at 1-800-877-8339.

[FR Doc. 2012-5412 Filed 3-5-12; 8:45 am]

BILLING CODE 4000-01-P